DEPARTMENT OF EDUCATION

Applications for New Awards; Technical Assistance and Dissemination To Improve Services and Results for Children With Disabilities—Model Demonstration Projects To Improve Algebraic Reasoning for Students With Disabilities in Middle and High School

AGENCY: Office of Special Education and Rehabilitative Services, Department of Education.

ACTION: Notice.

SUMMARY: The Department of Education is issuing a notice inviting applications for a new award for fiscal year (FY) 2017 for Technical Assistance and Dissemination to Improve Services and Results for Children with Disabilities—Model Demonstration Projects to Improve Algebraic Reasoning for Students with Disabilities in Middle and High School.

Catalog of Federal Domestic Assistance (CFDA) number 84.326M.

DATES:

Applications Available: May 19, 2017.

Deadline for Transmittal of Applications: July 3, 2017.

Deadline for Intergovernmental Review: September 1, 2017.

FOR FURTHER INFORMATION CONTACT: Paula Maccini, U.S. Department of Education, 400 Maryland Avenue SW., Room 5142, Potomac Center Plaza, Washington, DC 20202-5108. Telephone: (202) 245-8012.

If you use a telecommunications device for the deaf (TDD) or a text telephone (TTY), call the Federal Relay Service (FRS), toll free, at 1-800-877-8339.

SUPPLEMENTARY INFORMATION:

Full Text of Announcement

I. Funding Opportunity Description

Purpose of Program: The purpose of the Technical Assistance and Dissemination to Improve Services and Results for Children with Disabilities program is to promote academic achievement and to improve results for children with disabilities by providing technical assistance (TA), supporting model demonstration projects, disseminating useful information, and implementing activities that are supported by scientifically based research.

Priorities: This competition has one absolute priority. In accordance with 34 CFR 75.105(b)(2)(v), the absolute priority is from allowable activities specified in the statute or otherwise authorized in the statute (see sections 663 and 681(d) of the Individuals with Disabilities Education Act (IDEA), 20 U.S.C. 1463, 1481(d)).

Absolute Priority: For FY 2017 and any subsequent year in which we make awards from the list of unfunded applications from this competition, this priority is an absolute priority. Under 34 CFR 75.105(c)(3), we consider only applications that meet this priority.

This priority is:

Model Demonstration Projects To Improve Algebraic Reasoning for Students With Disabilities in Middle and High School.

Background

Model demonstrations to improve early intervention, educational, or transitional results for students with disabilities have been authorized under the Individuals with Disabilities Education Act (IDEA) since the mid-1970s. For the purposes of this priority, a model is a set of existing interventions supported by evidence and implementation strategies (i.e., core model components) that research suggests will improve child, teacher, or system outcomes when implemented with fidelity (Hughes, Powell, Lembke, & Riley-Tillman, 2016). Model demonstrations involve investigating the degree to which a model can be implemented, and sustained in typical settings, by staff employed in those settings, while achieving outcomes similar to those attained under research conditions.

The purpose of this priority is to fund three cooperative agreements to establish and operate model demonstration projects that will assess how models can: (a) improve algebraic reasoning for students with disabilities in middle and high schools; and (b) be implemented and sustained by educators in general and special education settings. These proposed models will be the first to focus on mathematics for adolescents with disabilities, a critical area of need.

Algebraic reasoning (as defined in this notice) is a critical component of success in mathematics and is applied to topics within number operations, number systems, measurement and data, geometry, rational numbers, ratios and proportional relationships, expressions and equations, and functions (Van De Walle, Karp, & Bay-Williams, 2013). Algebra is a gateway to advanced coursework, graduation, and future earnings (National Mathematics Advisory Panel (NMAP), 2008); therefore, it is imperative to address the achievement gap in mathematics that exists between students with disabilities (SWD) and students without disabilities.

The most recent National Assessment of Educational Progress report (NAEP; 2015) indicates that more than 70 percent of 8th grade SWD, excluding those with a 504 plan, performed below the basic level on the mathematics assessment compared to 24 percent of students without disabilities (U.S. Department of Education, 2015). For 12th graders, the disparity is greater, as 81 percent of SWD scored below basic level on the math assessment compared with 34 percent of students without disabilities (U.S. Department of Education, 2015).

The average algebra scaled score for 8th graders with disabilities was 247 in a range of 0-500 points, compared to 293 for 8th graders without disabilities. For 12th graders with disabilities, the average scaled score was 117 in a range of 0-300 points, compared to 157 for 12th graders without disabilities. The discrepancies in algebra scores between SWD and those without disabilities in both 8th and 12th grade are statistically significant (NAEP; 2015).

There is a need to focus on meeting the specific needs of SWD in algebra (Witzel, 2016; Hughes, Witzel, Riccomini, Fries, & Kanyongo, 2014). Certain learner characteristics of SWD may impede their performance in algebra (Allsopp, van Igen, Simsek, & Haley, 2016). Difficulties SWD experience in algebra include understanding algebraic representations, which may be due to difficulties with cognitive processing; recalling multi-step procedures because of memory difficulties; and problem solving strategies due to metacognitive difficulties. These difficulties may cumulatively affect students in algebra and their subsequent performance in mathematics (Allsopp et al., 2016).

Students with mathematical learning disabilities (MLD) ¹ comprise about seven percent of school-age learners (Geary, 2011). Students with MLD may exhibit difficulties with language-based tasks and struggle to conceptualize abstract algebraic concepts and solve problems involving algebraic reasoning. To address these difficulties, and to ensure that students with MLD receive appropriate services and supports as guaranteed in IDEA, educators must be trained in using practices supported by evidence in teaching mathematics and algebraic reasoning. This competition aims to fund model demonstration projects that will investigate ways to train educators to successfully implement these practices. These three proposed model demonstration projects must be based on current research and make use of practices supported by evidence.²

¹ Participants must have math goals on their Individualized Education Programs (IEPs) and can be classified under any of the IDEA disability categories.

² The What Works Clearinghouse (WWC) identifies a number of practices supported by evidence in the following two practice guides: Assisting Students Struggling with Mathematics: Response to Intervention (RtI) for Elementary and Middle Schools (Gersten et al., 2009); and Teaching Strategies for Improving Algebra Knowledge in Middle and High School (Star et al., 2015). Each practice guide was developed by a panel of researchers and practitioners with expertise in various dimensions of math and special education. We mention the guides for information only; use of the practices contained in them is permitted, but not required, in this competition.

Priority

The purpose of this priority is to fund three cooperative agreements to establish and operate model demonstration projects that will assess how models can: (a) Improve algebraic reasoning for SWD in middle and high schools and (b) be implemented and sustained by educators in general and special education settings. Applicants must propose models that meet the following requirements:

(a) The model's core intervention components (e.g., services, assessments, processes, data collection instruments) must include:

(1) A framework that includes, at a minimum, universal screening, progress monitoring, and core instructional practices supported by evidence and based on current research;

(2) Core instructional practices for improving algebraic reasoning supported by evidence and based on current research that meet the needs of students with disabilities in middle and high school;

(3) Standardized measures of students' algebraic reasoning, individual instructor (e.g., teacher, paraprofessional, specialist), and system-level outcomes, when appropriate;

(4) Procedures to refine the model based on the ongoing assessment of students' performance on algebraic reasoning; and

(5) Measures of the model's social validity, i.e., measures of educators', parents', and students' ³ satisfaction with the model components, processes, and outcomes.

³ Applicants must ensure the confidentiality of individual data, consistent with the requirements of section 444 of the General Education Provisions Act (20 U.S.C. 1232g), commonly known as the “Family Educational Rights and Privacy Act” (FERPA), and State laws or regulations concerning the confidentiality of individual records. Final FERPA regulatory changes became effective January 3, 2012, and include requirements for data sharing. Applicants are encouraged to review the final FERPA regulations published on December 2, 2011 (76 FR 75604). Questions can be sent to the Family Policy Compliance Office (www.ed.gov/fpco) at (202) 260-3887 or FERPA@ed.gov.

(b) The model's core implementation components must include:

(1) Criteria and strategies for selecting ⁴ and recruiting sites, including approaches to introducing the model to, and promoting the model among, site participants,⁵ with consideration given to the following criteria:

⁴ For factors to consider when selecting model demonstration sites, the applicant should refer to Assessing Sites for Model Demonstration: Lessons Learned for OSEP Grantees at http://mdcc.sri.com/documents/MDCC_Site_Assessment_Brief_09-30-11.pdf. The document also contains a site assessment tool.

⁵ For factors to consider while preparing for model demonstration implementation, the applicant should refer to Preparing for Model Demonstration Implementation at http://mdcc.sri.com/documents/MDCC_PreparationStage_Brief_Apr2013.pdf.

(i) Each project must include at least three middle or at least three high schools.

(ii) In each of the schools, all of the identified SWD in middle and high school participating in the model demonstration projects must have math goals on their Individualized Education Programs (IEPs) and can be classified under any of the IDEA disability categories.

(2) A lag site implementation design, which allows for model development and refinement at the first site in year one of the project period, with sites two and three implementing a revised model based on data from the first site beginning in year two;

(3) A professional development component that includes a coaching strategy supported by evidence to enable staff (e.g., teacher, paraprofessional, specialist) to implement the interventions with fidelity; and

(4) Measures of the results of the professional development (e.g., improvements in teachers'/service providers' instructional delivery and knowledge) required by paragraph (b)(3) of this section, including measures of the fidelity of implementation.

(c) The core strategies for sustaining the model must include:

(1) Documentation that permits current and future practitioners to replicate and tailor the model at other sites; ⁶ and

⁶ For a guide on documenting model demonstration sustainment and replication, the applicant should refer to Planning for Replication and Dissemination From the Start: Guidelines for Model Demonstration Projects at http://mdcc.sri.com/documents/MDCC_ReplicationBrief_SEP2013.pdf.

(2) A dissemination plan that includes strategies and measurable goals for the grantee to disseminate or sustain the model, such as developing easily accessible training materials or coordinating with TA providers who might serve as future trainers.

To be considered for funding under this absolute priority, applicants must meet the application requirements contained in this priority. Each project funded under this absolute priority also must meet the programmatic and administrative requirements specified in the priority.

Application Requirements

An applicant must include in its application—

(a) A detailed review of the literature indicating that the proposed model is supported by evidence meeting at least the conditions set out in the definition of strong theory (as defined in this notice) and that supports the promise of the proposed model, its components, and processes to improve algebraic reasoning for SWD in middle and high school;

(b) A logic model that depicts, at a minimum, the goals, activities, outputs, and outcomes of the proposed model demonstration project. A logic model used in connection with this priority communicates how a project will achieve its outcomes and provides a framework for both the formative and summative evaluations of the project;

(c) Include, in Appendix A, a logic model, a conceptual framework for the project, and person-loading charts and timelines, as applicable, to illustrate the management plan described in the narrative.

Note: The following Web sites provide examples for constructing logic models: www.osepideasthatwork.org/resources-grantees/program-areas/ta-ta/tad-project-logic-model-and-conceptual-framework and www.osepideasthatwork.org/logicModel.

(d) A description of the activities and measures to be incorporated into the proposed model demonstration project to improve algebraic reasoning for SWD, including a timeline of how and when the components are introduced within the model. A detailed and complete description must include the following:

(1) All the intervention components, including, at a minimum, those components listed in paragraph (a) under the heading Priority.

(2) The existing and proposed child, teacher, and system outcome measures and social validity measures. The measures should be described as completely as possible, referenced as appropriate, and included, when available, in Appendix A.

(3) All the implementation components, including, at a minimum, those listed in paragraph (b) under the heading Priority. The existing or proposed implementation fidelity measures, including those measuring the fidelity of the professional development strategy, should be described as completely as possible, referenced as appropriate, and included, when available, in Appendix A. In addition, this description should include:

(i) Demographics, including, at a minimum, ethnicity, gender, grade level, and age for all SWD at all implementation sites that have been identified and successfully recruited for the purposes of this application using the selection and recruitment strategies described in paragraph (b)(1) under the heading Priority;

(ii) Whether the implementation sites are high-need,⁷ high-poverty,⁸ low-performing,⁹ rural, urban, or suburban local education agencies (LEAs) or schools; and

⁷ For the purposes of this priority, the term “high-need school” refers to a public elementary or secondary school that is a “high-poverty” or “low-performing” school as defined in footnotes 8 and 9, respectively.

⁸ For the purposes of this priority, the term “high-poverty school” means a school that is in the highest two quartiles of schools served by a local educational agency, based on the percentage of enrolled students from low-income families as defined in section 1113(a)(5) of the Elementary and Secondary Education Act of 1965, as amended (ESEA).

⁹ For the purpose of this priority, the term “low-performing school” means a school receiving assistance through Title I of the ESEA that, at the time of submission of an application under this competition, is (1) identified as a school in need of corrective action or restructuring under section 1116 of the ESEA, as amended by the No Child Left Behind Act of 2001 (NCLB); or (2) identified as a priority or focus school in a State that implemented ESEA flexibility. The inclusion of these schools as “low-performing schools” reflects the fact that the 2016−2017 school year is a year of transition between requirements of the ESEA as amended by NCLB and the ESEA as amended by the Every Student Succeeds Act.

Note: Applicants are encouraged to identify, to the extent possible, the sites willing to participate in the applicant's model demonstration. Final site selection will be determined in consultation with the Office of Special Education Programs (OSEP) project officer following the kick-off meeting described in paragraph (e)(1) of these application requirements.

(iii) The lag design for implementation consistent with the requirements in paragraph (b)(2) under the heading Priority.

(4) All the strategies to promote sustaining and replicating the model, including, at a minimum, those listed in paragraph (c) under the heading Priority.

(e) A description of the evaluation activities and measures to be incorporated into the proposed model demonstration project. A detailed and complete description must include:

(1) A formative evaluation plan, consistent with the project's logic model, that includes evaluation questions, source(s) of data, a timeline for data collection, and analysis plans. The plan must show how the outcome (e.g., child measures, social validity) and implementation data (e.g., fidelity) will be used separately or in combination to improve the project during the performance period. The plan also must outline how these data will be reviewed by project staff, when they will be reviewed, and how they will be used during the course of the project to adjust the model or its implementation to increase the model's usefulness, generalizability, and potential for sustainability; and

(2) A summative evaluation plan, including a timeline, to collect and analyze data on changes to child, teacher, and systems outcome measures over time or relative to comparison groups that can be reasonably attributable to project activities. The plan must show how the child or system outcome and implementation data collected by the project will be used separately or in combination to demonstrate the promise of the model.

(f) A budget for attendance at the following:

(1) A one and one half-day kick-off meeting to be held in Washington, DC, after receipt of the award;

(2) A three-day Project Directors' Conference in Washington, DC, occurring each year during the project performance period; and

(3) Four travel days spread across years two through four of the project period to attend planning meetings, Department briefings, Department-sponsored conferences, and other meetings, as requested by OSEP, to be held in Washington, DC, with the OSEP project officer.

Other Project Activities

To meet the requirements of this priority, each project, at a minimum, must:

(a) Communicate and collaborate on an ongoing basis with other relevant Department-funded projects, including, at minimum, OSEP-funded TA centers (see www.osepideasthatwork.org/find-center-or-grant/find-a-center) that might disseminate information on the model or support the scale-up efforts of a promising model;

(b) Maintain ongoing telephone and email communication with the OSEP project officer and the other model demonstration projects funded under this priority; and

(c) If the project maintains a Web site, include relevant information about the model, the intervention, and the demonstration activities that meets government- or industry-recognized standards for accessibility.

Competitive Preference Priority

Within this absolute priority, we give competitive preference to applications that address the following priority. Under 34 CFR 75.105(c)(2)(i), we award an additional two points to an application that meets this priority.

The priority is:

Evidence of Promise Supporting the Proposed Model (Two Points).

Projects that are supported by evidence that meets the conditions set out in the definition of “evidence of promise” (as defined in this notice). The proposed project must include:

A literature review, as required under paragraph (a) under the heading Application Requirements, that includes research that meets at least the evidence of promise standard supporting the promise of the proposed model, its components, and processes to improve algebraic reasoning in middle and high schools.

Note: An applicant addressing this competitive preference priority must identify up to two study citations that meet this standard and clearly mark them in the reference list of the proposal.

References

Allsopp, D.H., van Ingen, S., Simsek, O., & Haley, K.C. (2016). Building to algebra: Big ideas, barriers, and effective practices. In B.S. Witzel (Ed.), Bridging the gap between arithmetic & algebra (pp.21-50). Arlington, VA: Council for Exceptional Children.

Geary, D.C. (2011). Consequences, characteristics, and causes of mathematical learning disabilities and persistent low achievement in mathematics. Journal of Developmental and Behavioral Pediatrics, 32(3), 250-263.

Gersten, R., Beckmann, S., Clarke, B., Foegen, A., Marsh, L., Star, J.R., & Witzel, B. (2009). Assisting students struggling with mathematics: Response to intervention (RtI) for elementary and middle schools (NCEE 2009-4060). Washington, DC: National Center for Education Evaluation and Regional Assistance, Institute of Education Sciences, U.S. Department of Education. Retrieved from http://ies.ed.gov/ncee/wwc/publications/practiceguide/.

Hughes, E.M., Powell, S.R., Lembke, E.S., & Riley-Tillman, T.C. (2016). Taking the guesswork out of locating evidence-based mathematics practices for diverse learners. Learning Disabilities Research & Practice, 31(3), 130-141.

Hughes, E.M., Witzel, B.S., Riccomini, P.J., Fries, K.M., & Kanyongo, G.Y. (2014). A meta-analysis of algebra interventions for learners with disabilities and struggling learning. The Journal of the International Association of Special Education, 15(1), 36-47.

Individuals with Disabilities Education Improvement Act of 2004, Public Law 108-446. (2004). 20 U.S.C. 1400 et seq.

National Mathematics Advisory Panel (NMAP). (2008). Foundations for success: The final report of the national advisory panel. Washington, DC: U.S. Department of Education.

Organization for Economic Cooperation and Development (OECD). (2013). PISA 2012 Assessment and Analytical Framework: Mathematics, Reading, Science, Problem Solving and Financial Literacy. Paris: OECD Publishing.

Star, J.R., Caronongan, P., Foegen, A., Furgeson, J., Keating, B., Larson, M.R., & Zbiek, R.M. (2015). Teaching strategies for improving algebra knowledge in middle and high school students (NCEE 2014-4333). Washington, DC: National Center for Education Evaluation and Regional Assistance (NCEE), Institute of Education Sciences, U.S. Department of Education. Retrieved from the NCEE Web site: http://whatworks.ed.gov.

U.S. Department of Education, Institute of Education Sciences, National Center for Education Statistics. (2015). National Assessment of Educational Progress Reading and Mathematics Assessments (NAEP), 2015, 2013, Mathematics Assessments. Accessed through the NAEP Data Explorer at http://nces.ed.gov/nationsreportcard/naepdata/.

Van De Walle, J.A., Karp, K.S., & Bay-Williams, J.M. (2013). Elementary and middle school mathematics: Teaching developmentally. Boston, MA: Pearson.

Witzel, B. (2016). Students with math difficulties and the arithmetic to algebra gap. In B.S. Witzel (Ed.), Bridging the gap between arithmetic & algebra (pp.7-20). Arlington, VA: Council for Exceptional Children.

Definitions

The following definitions apply to the priority:

Algebraic reasoning means “forming generalizations from experiences with number and computation, formalizing these ideas with the use of a meaningful symbol system, and exploring the concepts of pattern and function” (Van De Walle, Karp, & Bay-Williams, 2013, p. 258).

The definitions of the following terms are from 34 CFR 77.1: “evidence of promise,” “logic model,” “quasi-experimental design study,” “randomized controlled trial”, “relevant outcome,” “strong theory,” and “What Works Clearinghouse evidence standards.”

Evidence of promise means there is empirical research to support the theoretical linkage(s) between at least one critical component and at least one relevant outcome presented in the logic model for the proposed process, product, strategy, or practice. Specifically, evidence of promise means the conditions in both paragraphs (i) and (ii) of this definition are met:

(i) There is at least one study that is a—

(A) Correlational study with statistical controls for selection bias;

(B) Quasi-experimental design study that meets the What Works Clearinghouse Evidence Standards with reservations; or

(C) Randomized controlled trial that meets the What Works Clearinghouse Evidence Standards with or without reservations.

(ii) The study referenced in paragraph (i) of this definition found a statistically significant or substantively important (defined as a difference of 0.25 standard deviations or larger) favorable association between at least one critical component and one relevant outcome presented in the logic model for the proposed process, product, strategy, or practice.

Logic model (also referred to as theory of action) means a well-specified conceptual framework that identifies key components of the proposed process, product, strategy, or practice (i.e., the active “ingredients” that are hypothesized to be critical to achieving the relevant outcomes) and describes the relationships among the key components and outcomes, theoretically and operationally.

Mathematical literacy refers to, “an individual's capacity to formulate, employ, and interpret mathematics in a variety of contexts. It includes reasoning mathematically and using mathematical concepts, procedures, facts and tools to describe, explain and predict phenomena. It assists individuals to recognize the role that mathematics plays in the world and to make the well-founded judgments and decisions needed by constructive, engaged and reflective citizens” (Organization for Economic Cooperation and Development, 2013, p. 25).

Quasi-experimental design study means a study using a design that attempts to approximate an experimental design by identifying a comparison group that is similar to the treatment group in important respects. These studies, depending on design and implementation, can meet What Works Clearinghouse Evidence Standards with reservations (but not What Works Clearinghouse Evidence Standards without reservations).

Randomized controlled trial means a study that employs random assignment of, for example, students, teachers, classrooms, schools, or districts to receive the intervention being evaluated (the treatment group) or not to receive the intervention (the control group). The estimated effectiveness of the intervention is the difference between the average outcomes for the treatment group and for the control group. These studies, depending on design and implementation, can meet What Works Clearinghouse Evidence Standards without reservations.

Relevant outcome means the student outcome(s) (or the ultimate outcome if not related to students) the proposed process, product, strategy, or practice is designed to improve; consistent with the specific goals of a program.

Strong theory means a rationale for the proposed process, product, strategy, or practice that includes a logic model.

What Works Clearinghouse Evidence Standards means the standards set forth in the What Works Clearinghouse Procedures and Standards Handbook (Version 3.0, March 2014), which can be found at the following link: http://ies.ed.gov/ncee/wwc/DocumentSum.aspx?sid=19.

Waiver of Proposed Rulemaking: Under the Administrative Procedure Act (APA) (5 U.S.C. 553) the Department generally offers interested parties the opportunity to comment on proposed priorities and other requirements. Section 681(d) of IDEA, however, makes the public comment requirements of the APA inapplicable to the absolute priority and related definitions in this notice.

Program Authority: 20 U.S.C. 1463 and 1481.

Applicable Regulations: (a) The Education Department General Administrative Regulations (EDGAR) in 34 CFR parts 75, 77, 79, 81, 82, 84, 86, 97, 98, and 99. (b) The Office of Management and Budget Guidelines to Agencies on Governmentwide Debarment and Suspension (Nonprocurement) in 2 CFR part 180, as adopted and amended as regulations of the Department in 2 CFR part 3485. (c) The Uniform Administrative Requirements, Cost Principles, and Audit Requirements for Federal Awards in 2 CFR part 200, as adopted and amended as regulations of the Department in 2 CFR part 3474.

Note: The regulations in 34 CFR part 79 apply to all applicants except federally recognized Indian Tribes.

Note: The regulations in 34 CFR part 86 apply to institutions of higher education (IHEs) only.

II. Award Information

Type of Award: Cooperative agreements.

Estimated Available Funds: The Further Continuing and Security Assistance Appropriations Act, 2017, would provide $54,345,000 for the Technical Assistance and Dissemination To Improve Services and Results for Children With Disabilities program for FY 2017, of which we intend to use an estimated $1,200,000 for this competition (per year divided between the three new projects). The actual level of funding, if any, depends on final congressional action. However, we are inviting applications to allow enough time to complete the grant process if Congress appropriates funds for this program.

Contingent upon the availability of funds and the quality of applications, we may make additional awards in FY 2018 from the list of unfunded applications from this competition.

Estimated Range of Awards: $375,000 to $400,000 per year.

Estimated Average Size of Awards: $400,000 per year.

Maximum Award: We will reject any application that proposes a budget exceeding $400,000 for a single budget period of 12 months.

Estimated Number of Awards: 3.

Note: The Department is not bound by any estimates in this notice.

Project Period: Up to 48 months.

Evaluation Period: In August 2013, the Department amended the Education Department General Administrative Regulations (EDGAR) to authorize the awarding of an evaluation period after the end of the approved project period. Under 34 CFR 75.250(b) the Secretary has the authority to make data collection/analysis awards. By the terms of that section, the awards can only go to current grantees, may only be used for data collection, analysis and reporting and do not have to go through a formal competitive process.

III. Eligibility Information

1. Eligible Applicants: State educational agencies (SEAs); LEAs, including public charter schools that are considered LEAs under State law; IHEs; other public agencies; private nonprofit organizations; outlying areas; freely associated States; Indian Tribes or Tribal organizations; and for-profit organizations.

2. Cost Sharing or Matching: This program does not require cost sharing or matching.

3. Eligible Subgrantees: (a) Under 34 CFR 75.708(b) and (c) a grantee may award subgrants—to directly carry out project activities described in its application—to the following types of entities: IHEs and private nonprofit organizations suitable to carry out the activities proposed in the application.

(b) The grantee may award subgrants to entities it has identified in an approved application.

4. Other General Requirements:

(a) Recipients of funding under this competition must make positive efforts to employ and advance in employment qualified individuals with disabilities (see section 606 of IDEA).

(b) Each applicant for, and recipient of, funding must, with respect to the aspects of their proposed project relating to the absolute priority, involve individuals with disabilities, or parents of individuals with disabilities ages birth through 26, in planning, implementing, and evaluating the project (see section 682(a)(1)(A) of IDEA).

IV. Application and Submission Information

1. Address to Request Application Package: You can obtain an application package via the internet or from the Education Publications Center (ED Pubs). To obtain a copy via the internet, use the following address: www.ed.gov/fund/grant/apply/grantapps/index.html. To obtain a copy from ED Pubs, write, fax, or call: ED Pubs, U.S. Department of Education, P.O. Box 22207, Alexandria, VA 22304. Telephone, toll free: 1-877-433-7827. FAX: (703) 605-6794. If you use a TDD or a TTY, call, toll free: 1-877-576-7734.

You can contact ED Pubs at its Web site, also: www.EDPubs.gov or at its email address: edpubs@inet.ed.gov.

If you request an application package from ED Pubs, be sure to identify this competition as follows: CFDA number 84.326M.

Individuals with disabilities can obtain a copy of the application package in an accessible format (e.g., braille, large print, audiotape, or compact disc) by contacting the person or team listed under Accessible Format in section VII of this notice.

2. Content and Form of Application Submission: Requirements concerning the content and form of an application, together with the forms you must submit, are in the application package for this competition.

Page Limit: The application narrative (Part III of the application) is where you, the applicant, address the selection criteria that reviewers use to evaluate your application. We recommend that you—(1) limit Part III to no more than 50 pages, and (2) use the following standards:

• A “page” is 8.5″ × 11″, on one side only, with 1″ margins at the top, bottom, and both sides.

• Double-space (no more than three lines per vertical inch) all text in the application narrative, including titles, headings, footnotes, quotations, reference citations, and captions, as well as all text in charts, tables, figures, graphs, and screen shots.

• Use a font that is 12 point or larger.

• Use one of the following fonts: Times New Roman, Courier, Courier New, or Arial.

The recommended page limit does not apply to Part I, the cover sheet; Part II, the budget section, including the narrative budget justification; Part IV, the assurances and certifications; or the abstract (follow the guidance provided in the application package for completing the abstract), the table of contents, the list of priority requirements, the resumes, the reference list, the letters of support, or the appendices. However, the recommended page limit does apply to all of Part III, the application narrative, including all text in charts, tables, figures, graphs, and screen shots.

3. Submission Dates and Times:

Applications Available: May 19, 2017.

Deadline for Transmittal of Applications: July 3, 2017.

Applications for grants under this competition must be submitted electronically using the Grants.gov Apply site (Grants.gov). For information (including dates and times) about how to submit your application electronically, or in paper format by mail or hand delivery if you qualify for an exception to the electronic submission requirement, please refer to Other Submission Requirements in section IV of this notice.

We do not consider an application that does not comply with the deadline requirements.

Individuals with disabilities who need an accommodation or auxiliary aid in connection with the application process should contact the person listed under FOR FURTHER INFORMATION CONTACT. If the Department provides an accommodation or auxiliary aid to an individual with a disability in connection with the application process, the individual's application remains subject to all other requirements and limitations in this notice.

Deadline for Intergovernmental Review: September 1, 2017.

4. Intergovernmental Review: This competition is subject to Executive Order 12372 and the regulations in 34 CFR part 79. Information about Intergovernmental Review of Federal Programs under Executive Order 12372 is in the application package for this competition.

5. Funding Restrictions: We reference regulations outlining funding restrictions in the Applicable Regulations section of this notice.

6. Data Universal Numbering System Number, Taxpayer Identification Number, and System for Award Management: To do business with the Department of Education, you must—

a. Have a Data Universal Numbering System (DUNS) number and a Taxpayer Identification Number (TIN);

b. Register both your DUNS number and TIN with the System for Award Management (SAM), the Government's primary registrant database;

c. Provide your DUNS number and TIN on your application; and

d. Maintain an active SAM registration with current information while your application is under review by the Department and, if you are awarded a grant, during the project period.

You can obtain a DUNS number from Dun and Bradstreet at the following Web site: http://fedgov.dnb.com/webform. A DUNS number can be created within one to two business days.

If you are a corporate entity, agency, institution, or organization, you can obtain a TIN from the Internal Revenue Service. If you are an individual, you can obtain a TIN from the Internal Revenue Service or the Social Security Administration. If you need a new TIN, please allow two to five weeks for your TIN to become active.

The SAM registration process can take approximately seven business days, but may take upwards of several weeks, depending on the completeness and accuracy of the data you enter into the SAM database. Thus, if you think you might want to apply for Federal financial assistance under a program administered by the Department, please allow sufficient time to obtain and register your DUNS number and TIN. We strongly recommend that you register early.

Note: Once your SAM registration is active, it may be 24 to 48 hours before you can access the information in, and submit an application through, Grants.gov.

If you are currently registered with SAM, you may not need to make any changes. However, please make certain that the TIN associated with your DUNS number is correct. Also note that you will need to update your registration annually. This may take three or more business days.

Information about SAM is available at www.SAM.gov. To further assist you with obtaining and registering your DUNS number and TIN in SAM or updating your existing SAM account, we have prepared a SAM.gov Tip Sheet, which you can find at: www2.ed.gov/fund/grant/apply/sam-faqs.html.

In addition, if you are submitting your application via Grants.gov, you must (1) be designated by your organization as an Authorized Organization Representative (AOR); and (2) register yourself with Grants.gov as an AOR. Details on these steps are outlined at the following Grants.gov Web page: www.grants.gov/web/grants/register.html.

7. Other Submission Requirements: Applications for grants under this competition must be submitted electronically unless you qualify for an exception to this requirement in accordance with the instructions in this section.

a. Electronic Submission of Applications.

Applications for grants under the Model Demonstration Projects to Improve Algebraic Reasoning for Students with Disabilities in Middle and High School competition, CFDA number 84.326M, must be submitted electronically using the Governmentwide Grants.gov Apply site at www.Grants.gov. Through this site, you will be able to download a copy of the application package, complete it offline, and then upload and submit your application. You may not email an electronic copy of a grant application to us.

We will reject your application if you submit it in paper format unless, as described elsewhere in this section, you qualify for one of the exceptions to the electronic submission requirement and submit, no later than two weeks before the application deadline date, a written statement to the Department that you qualify for one of these exceptions. Further information regarding calculation of the date that is two weeks before the application deadline date is provided later in this section under Exception to Electronic Submission Requirement.

You may access the electronic grant application for the Model Demonstration Projects to Improve Algebraic Reasoning for Students with Disabilities in Middle and High School competition at www.Grants.gov. You must search for the downloadable application package for this competition by the CFDA number. Do not include the CFDA number's alpha suffix in your search (e.g., search for 84.326, not 84.326M).

Please note the following:

• When you enter the Grants.gov site, you will find information about submitting an application electronically through the site, as well as the hours of operation.

• Applications received by Grants.gov are date and time stamped. Your application must be fully uploaded and submitted and must be date and time stamped by the Grants.gov system no later than 4:30:00 p.m., Washington, DC time, on the application deadline date. Except as otherwise noted in this section, we will not accept your application if it is received—that is, date and time stamped by the Grants.gov system—after 4:30:00 p.m., Washington, DC time, on the application deadline date. We do not consider an application that does not comply with the deadline requirements. When we retrieve your application from Grants.gov, we will notify you if we are rejecting your application because it was date and time stamped by the Grants.gov system after 4:30:00 p.m., Washington, DC time, on the application deadline date.

• The amount of time it can take to upload an application will vary depending on a variety of factors, including the size of the application and the speed of your internet connection. Therefore, we strongly recommend that you do not wait until the application deadline date to begin the submission process through Grants.gov.

• You should review and follow the Education Submission Procedures for submitting an application through Grants.gov that are included in the application package for this competition to ensure that you submit your application in a timely manner to the Grants.gov system. You can also find the Education Submission Procedures pertaining to Grants.gov under News and Events on the Department's G5 system home page at www.G5.gov. In addition, for specific guidance and procedures for submitting an application through Grants.gov, please refer to the Grants.gov Web site at: www.grants.gov/web/grants/applicants/apply-for-grants.html.

• You will not receive additional point value because you submit your application in electronic format, nor will we penalize you if you qualify for an exception to the electronic submission requirement, as described elsewhere in this section, and submit your application in paper format.

• You must submit all documents electronically, including all information you typically provide on the following forms: the Application for Federal Assistance (SF 424), the Department of Education Supplemental Information for SF 424, Budget Information—Non-Construction Programs (ED 524), and all necessary assurances and certifications.

• You must upload any narrative sections and all other attachments to your application as files in a read-only Portable Document Format (PDF). Do not upload an interactive or fillable PDF file. If you upload a file type other than a read-only PDF (e.g., Word, Excel, WordPerfect, etc.) or submit a password-protected file, we will not review that material. Please note that this could result in your application not being considered for funding because the material in question—for example, the application narrative—is critical to a meaningful review of your proposal. For that reason it is important to allow yourself adequate time to upload all material as PDF files. The Department will not convert material from other formats to PDF. Additional, detailed information on how to attach files is in the application instructions.

• After you electronically submit your application, you will receive from Grants.gov an automatic notification of receipt that contains a Grants.gov tracking number. This notification indicates receipt by Grants.gov only, not receipt by the Department. Grants.gov will also notify you automatically by email if your application met all the Grants.gov validation requirements or if there were any errors (such as submission of your application by someone other than a registered Authorized Organization Representative, or inclusion of an attachment with a file name that contains special characters). You will be given an opportunity to correct any errors and resubmit, but you must still meet the deadline for submission of applications.

Once your application is successfully validated by Grants.gov, the Department will retrieve your application from Grants.gov and send you an email with a unique PR/Award number for your application.

These emails do not mean that your application is without any disqualifying errors. While your application may have been successfully validated by Grants.gov, it must also meet the Department's application requirements as specified in this notice and in the application instructions. Disqualifying errors could include, for instance, failure to upload attachments in a read-only PDF; failure to submit a required part of the application; or failure to meet applicant eligibility requirements. It is your responsibility to ensure that your submitted application has met all of the Department's requirements.

• We may request that you provide us original signatures on forms at a later date.

Application Deadline Date Extension in Case of Technical Issues with the Grants.gov System: If you are experiencing problems submitting your application through Grants.gov, please contact the Grants.gov Support Desk, toll free, at 1-800-518-4726. You must obtain a Grants.gov Support Desk Case Number and must keep a record of it.

If you are prevented from electronically submitting your application on the application deadline date because of technical problems with the Grants.gov system, we will grant you an extension until 4:30:00 p.m., Washington, DC time, the following business day to enable you to transmit your application electronically or by hand delivery. You also may mail your application by following the mailing instructions described elsewhere in this notice.

If you submit an application after 4:30:00 p.m., Washington, DC time, on the application deadline date, please contact the person listed under FOR FURTHER INFORMATION CONTACT and provide an explanation of the technical problem you experienced with Grants.gov, along with the Grants.gov Support Desk Case Number. We will accept your application if we can confirm that a technical problem occurred with the Grants.gov system and that the problem affected your ability to submit your application by 4:30:00 p.m., Washington, DC time, on the application deadline date. We will contact you after we determine whether your application will be accepted.

Note: The extensions to which we refer in this section apply only to the unavailability of, or technical problems with, the Grants.gov system. We will not grant you an extension if you failed to fully register to submit your application to Grants.gov before the application deadline date and time or if the technical problem you experienced is unrelated to the Grants.gov system.

Exception to Electronic Submission Requirement: You qualify for an exception to the electronic submission requirement, and may submit your application in paper format, if you are unable to submit an application through the Grants.gov system because—

• You do not have access to the internet; or

• You do not have the capacity to upload large documents to the Grants.gov system;

and

• No later than two weeks before the application deadline date (14 calendar days or, if the fourteenth calendar day before the application deadline date falls on a Federal holiday, the next business day following the Federal holiday), you mail or fax a written statement to the Department, explaining which of the two grounds for an exception prevents you from using the internet to submit your application.

If you mail your written statement to the Department, it must be postmarked no later than two weeks before the application deadline date. If you fax your written statement to the Department, we must receive the faxed statement no later than two weeks before the application deadline date.

Address and mail or fax your statement to: Paula Maccini, U.S. Department of Education, 400 Maryland Avenue SW., Room 5142, Potomac Center Plaza, Washington, DC 20202-5108. FAX: (202) 245-7590.

Your paper application must be submitted in accordance with the mail or hand-delivery instructions described in this notice.

b. Submission of Paper Applications by Mail.

If you qualify for an exception to the electronic submission requirement, you may mail (through the U.S. Postal Service or a commercial carrier) your application to the Department. You must mail the original and two copies of your application, on or before the application deadline date, to the Department at the following address: U.S. Department of Education, Application Control Center, Attention: (CFDA Number 84.326M), LBJ Basement Level 1, 400 Maryland Avenue SW., Washington, DC 20202-4260.

You must show proof of mailing consisting of one of the following:

(1) A legibly dated U.S. Postal Service postmark.

(2) A legible mail receipt with the date of mailing stamped by the U.S. Postal Service.

(3) A dated shipping label, invoice, or receipt from a commercial carrier.

(4) Any other proof of mailing acceptable to the Secretary of the U.S. Department of Education.

If you mail your application through the U.S. Postal Service, we do not accept either of the following as proof of mailing:

(1) A private metered postmark.

(2) A mail receipt that is not dated by the U.S. Postal Service.

Note: The U.S. Postal Service does not uniformly provide a dated postmark. Before relying on this method, you should check with your local post office.

We will not consider applications postmarked after the application deadline date.

c. Submission of Paper Applications by Hand Delivery.

If you qualify for an exception to the electronic submission requirement, you (or a courier service) may deliver your paper application to the Department by hand. You must deliver the original and two copies of your application by hand, on or before the application deadline date, to the Department at the following address: U.S. Department of Education, Application Control Center, Attention: (CFDA Number 84.326M), 550 12th Street SW., Room 7039, Potomac Center Plaza, Washington, DC 20202-4260.

The Application Control Center accepts hand deliveries daily between 8:00 a.m. and 4:30:00 p.m., Washington, DC time, except Saturdays, Sundays, and Federal holidays.

Note for Mail or Hand Delivery of Paper Applications: If you mail or hand deliver your application to the Department—

(1) You must indicate on the envelope and—if not provided by the Department—in Item 11 of the SF 424 the CFDA number, including suffix letter, if any, of the competition under which you are submitting your application; and

(2) The Application Control Center will mail to you a notification of receipt of your grant application. If you do not receive this notification within 15 business days from the application deadline date, you should call the U.S. Department of Education Application Control Center at (202) 245-6288.

V. Application Review Information

1. Selection Criteria: The selection criteria for this competition are listed in the application package.

(a) Significance (15 points).

(1) The Secretary considers the significance of the proposed project.

(2) In determining the significance of the proposed project, the Secretary considers the following factors:

(i) The extent to which the proposed project involves a high-quality review of the relevant literature and the demonstration of promising strategies that build on, or are alternatives to, existing strategies that address the needs of the target population.

(ii) The potential contribution of the proposed project to increase knowledge or understanding of problems, issues, or effective strategies in improving results for children with disabilities.

(iii) The extent to which the proposed project is likely to build local capacity to provide, improve, or expand and sustain services that address the needs of the target population.

Note: Under the “Significance” criterion, reviewers are looking for a thorough review of the literature that (a) substantiates the inclusion of existing interventions supported by evidence and implementation strategies (i.e., core model components) that research suggests will improve child, teacher, or system outcomes when implemented with fidelity; and (b) the efficacy of this model to address the issue or problem identified as a need in the priority. Reviewers will also be considering the breadth and adequacy of the applicant's proposed approaches to site staff training and strategies for sustainment of the model as part of this criterion.

(b) Quality of the project design (35 points).

(1) The Secretary considers the quality of the design of the proposed project.

(2) In determining the quality of the design of the proposed project, the Secretary considers the following factors:

(i) The extent to which a coherent model that includes site selection, practices supported by evidence, implementation and sustainment components is clearly articulated.

(ii) The extent to which the goals, activities, outputs, and outcomes to be achieved by the proposed project are clearly specified and measurable, as depicted in a logic model.

(iii) The extent to which the design of the proposed project includes a thorough, high-quality plan for project implementation, and the use of appropriate methodological tools to ensure successful achievement of project outcomes.

(iv) The extent to which the training or professional development to be provided by the proposed project are of sufficient quality, intensity, and duration to lead to improvements in practice among the recipients of those services.

(v) The quality of the proposed project design and procedures for documenting project activities, implementation, and outcomes (e.g., a manual).

(vi) The likelihood that the proposed project will result in system change or improvement through articulated strategies to sustain implementation, and detailed documentation that would allow replication in other locations as well as ambitious goals for disseminating the information to relevant stakeholders.

Note: Under the “Quality of Project Design” criterion, the reviewers are looking for: (a) A description of model site selection and preparation, to include the criteria for site selection and how the model will be introduced to major stakeholders at the site(s); (b) a clear and thorough description of the core intervention components of the model, to include the child, teacher, and system outcomes to be measured, along with proposed measures of social validity; (c) a clear and thorough description of the implementation components of the model, to include at minimum how and when site staff training will occur and the content of the training, how trainer remediation is addressed, staff coaching strategies, and how implementation fidelity will be measured; (d) a logic model that depicts, at a minimum, the goals, activities, outputs, and outcomes of the model; and (e) a clear and thorough description of the applicant's proposed sustainment strategies, to include how the information contained in the manual for the model will be compiled. In order to put these components in context, the reviewers also will be looking for a general timeline or flow of activities for the project that illustrates when these components are introduced in each site (i.e., lag design) and how and when the measures are taken and analyzed in support of the project evaluation activities.

(c) Adequacy of project resources and management plan (25 points).

(1) The Secretary considers the adequacy of resources for the proposed project and the quality of its management plan.

(2) In determining the adequacy of resources and the management plan, the Secretary considers the extent to which the applicant encourages applications for employment from persons who are members of groups that have traditionally been underrepresented based on race, color, national origin, gender, age, or disability.

(3) In addition, the Secretary considers the following factors:

(i) The qualifications, including relevant training and experience, of key project personnel (i.e., project director, project staff, and project consultants or subcontractors).

(ii) The adequacy of support, including the time commitments of the project director, project staff, and project consultants or subcontractors and the type and quality of facilities, equipment, supplies, and other resources from the applicant organization and key partners.

(iii) The extent to which the costs are reasonable in relation to the number of persons to be served and to the anticipated outcomes and benefits.

(iv) The adequacy of the management plan to achieve the objectives of the proposed model on time and within budget, including clearly defined responsibilities, timelines, and milestones for accomplishing project tasks.

(v) The adequacy of mechanisms for ensuring high-quality products and services from the proposed project.

(d) Quality of the project evaluation (25 points).

(1) The Secretary considers the quality of the evaluation to be conducted of the proposed project.

(2) In determining the quality of the evaluation, the Secretary considers the following factors:

(i) The extent to which the methods of evaluation will provide performance feedback and permit periodic assessment of progress toward effective implementation of the proposed project and achieving intended child and system outcomes.

(ii) The extent to which the methods of evaluation provide for examining the effectiveness of model intervention, implementation, and sustainment strategies.

(iii) The extent to which the methods of evaluation are thorough, feasible, and appropriate to the goals, activities, and outcomes of the proposed model.

(iv) The extent to which the evaluation will provide guidance about effective strategies suitable for replication or testing in other settings.

Note: Under the “Quality of the Project Evaluation” criterion, the reviewers are looking for: (a) A clear description of each of the proposed measures (it is recommended that the applicant attach the actual measures proposed; a description of the actual or proposed measures; or an example of a measure that closely approximates the proposed measure in an appendix); and (b) a clear indication of when these measures will be applied and how they will be analyzed and used for formative evaluation purposes (i.e., for making improvements to the model during the grant period) and for summative evaluation purposes (i.e., for determining the effectiveness and acceptability of the processes and outcomes attributable to the model).

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary requires various assurances, including those applicable to Federal civil rights laws that prohibit discrimination in programs or activities receiving Federal financial assistance from the Department of Education (34 CFR 100.4, 104.5, 106.4, 108.8, and 110.23).

3. Additional Review and Selection Process Factors: In the past, the Department has had difficulty finding peer reviewers for certain competitions because so many individuals who are eligible to serve as peer reviewers have conflicts of interest. The standing panel requirements under section 682(b) of IDEA also have placed additional constraints on the availability of reviewers. Therefore, the Department has determined that for some discretionary grant competitions, applications may be separated into two or more groups and ranked and selected for funding within specific groups. This procedure will make it easier for the Department to find peer reviewers by ensuring that greater numbers of individuals who are eligible to serve as reviewers for any particular group of applicants will not have conflicts of interest. It also will increase the quality, independence, and fairness of the review process, while permitting panel members to review applications under discretionary grant competitions for which they also have submitted applications.

4. Risk Assessment and Special Conditions: Consistent with 2 CFR 200.205, before awarding grants under this competition the Department conducts a review of the risks posed by applicants. Under 2 CFR 3474.10, the Secretary may impose special conditions and, in appropriate circumstances, high risk conditions on a grant if the applicant or grantee is not financially stable; has a history of unsatisfactory performance; has a financial or other management system that does not meet the standards in 2 CFR part 200, subpart D; has not fulfilled the conditions of a prior grant; or is otherwise not responsible.

5. Integrity and Performance System: If you are selected under this competition to receive an award that over the course of the project period may exceed the simplified acquisition threshold (currently $150,000), under 2 CFR 200.205(a)(2), we must make a judgment about your integrity, business ethics, and record of performance under Federal awards—that is, the risk posed by you as an applicant—before we make an award. In doing so, we must consider any information about you that is in the integrity and performance system (currently referred to as the Federal Awardee Performance and Integrity Information System (FAPIIS)), accessible through SAM. You may review and comment on any information about yourself that a Federal agency previously entered and that is currently in FAPIIS.

Please note that, if the total value of your currently active grants, cooperative agreements, and procurement contracts from the Federal Government exceeds $10,000,000, the reporting requirements in 2 CFR part 200, Appendix XII, require you to report certain integrity information to FAPIIS semiannually. Please review the requirements in 2 CFR part 200, Appendix XII, if this grant plus all the other Federal funds you receive exceed $10,000,000.

VI. Award Administration Information

1. Award Notices: If your application is successful, we notify your U.S. Representative and U.S. Senators and send you a Grant Award Notification (GAN); or we may send you an email containing a link to access an electronic version of your GAN. We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multiyear award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

4. Performance Measures: Under the Government Performance and Results Act of 1993 (GPRA), the Department has established a set of performance measures, including long-term measures, that are designed to yield information on various aspects of the effectiveness and quality of the Technical Assistance and Dissemination to Improve Services and Results for Children With Disabilities program. We will use these measures to evaluate the extent to which projects provide high-quality products and services, the relevance of project products and services to educational and early intervention policy and practice, and the use of products and services to improve educational and early intervention policy and practice.

Projects funded under this competition are required to submit data on these measures as directed by OSEP.

Grantees will be required to report information on their project's performance in annual and final performance reports to the Department (34 CFR 75.590).

5. Continuation Awards: In making a continuation award under 34 CFR 75.253, the Secretary considers, among other things: Whether a grantee has made substantial progress in achieving the goals and objectives of the project; whether the grantee has expended funds in a manner that is consistent with its approved application and budget; and, if the Secretary has established performance measurement requirements, the performance targets in the grantee's approved application.

In making a continuation award, the Secretary also considers whether the grantee is operating in compliance with the assurances in its approved application, including those applicable to Federal civil rights laws that prohibit discrimination in programs or activities receiving Federal financial assistance from the Department (34 CFR 100.4, 104.5, 106.4, 108.8, and 110.23).

VII. Other Information

Accessible Format: Individuals with disabilities can obtain this document and a copy of the application package in an accessible format (e.g., braille, large print, audiotape, or compact disc) by contacting the Management Support Services Team, U.S. Department of Education, 400 Maryland Avenue SW., Room 5113, Potomac Center Plaza, Washington, DC 20202-2500. Telephone: (202) 245-7363. If you use a TDD or a TTY, call the FRS, toll free, at 1-800-877-8339.

Electronic Access to This Document: The official version of this document is the document published in the Federal Register. Free internet access to the official edition of the Federal Register and the Code of Federal Regulations is available via the Federal Digital System at: www.gpo.gov/fdsys. At this site you can view this document, as well as all other documents of this Department published in the Federal Register, in text or PDF. To use PDF you must have Adobe Acrobat Reader, which is available free at the site.

You may also access documents of the Department published in the Federal Register by using the article search feature at: www.federalregister.gov. Specifically, through the advanced search feature at this site, you can limit your search to documents published by the Department.

Dated: May 16, 2017.
Ruth E. Ryder,
Deputy Director, Office of Special Education Programs, delegated the duties of the Assistant Secretary for Special Education and Rehabilitative Services.

[FR Doc. 2017-10249 Filed 5-18-17; 8:45 am]

BILLING CODE 4000-01-P